DEPARTMENT OF DEFENSE

Office of the Secretary

[Docket ID: DoD-2023-OS-0043]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 14, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of the Under Secretary of Defense (Personnel and Readiness, Military Community and Family Policy) Office of Special Needs, ATTN: Tomeshia Barnes, 1500 Defense Pentagon, Washington, DC 20301-1500, or call 571-372-4022.

SUPPLEMENTARY INFORMATION:

Title; Associated Form; and OMB Number: Exceptional Family Member Program; DD Form 2792, Family Member Medical Summary, and DD Form 2792-1, Special Education/Early Intervention Summary; OMB Control Number 0704-0411.

Needs and Uses: This information collection is necessary to identify any special medical (DD Form 2792) and/or educational (DD Form 2792-1) needs of military dependents. The purpose of this information collection is to (1) enroll sponsors into the Exceptional Family Member Program (EFMP), (2) consider the special needs of family members and the availability of medical and educational services through the EFMP assignment coordination process and the Family Member Travel Screening (FMTS) process, and (3) advise civilian employees about the availability of medical and educational services to meet the special needs of their family members in overseas locations. Local and state school and early intervention personnel complete DD Form 2792-1 for children requiring special educational services. The DD Form 2792 and DD Form 2792-1 are also used by TRICARE Managed Care Support Contractors to support a family member's application for further entitlements, and other Service-specific programs that require enrollment in the EFMP. The DD Form 2792 and DD Form 2792-1 associated with this information collection may be voluntarily submitted by a perspective civilian employee to the civilian personnel office to identify family members who have special needs to advise the civilian employee of the availability of services in the overseas location where they will be potentially employed. The DD Form 2792-1 must be completed if the civilian employee intends to enroll his or her child in a school funded by the DoD.

Affected Public: Individuals or households.

Annual Burden Hours: 15,617.

DD 2792:

Family Members: 4,652.

Medical Providers: 4,653.

DD 2792-1:

Family Members: 1,409.

Medical Providers: 4,903.

Number of Respondents: 98,608.

DD 2792:

Family Members: 55,828.

Medical Providers: 11,166.

DD 2792-1:

Family Members: 16,906.

Special Education Teachers: 14,708.

Responses per Respondent: 1.

DD 2792:

Family Members: 1.

Medical Providers: 1.

DD 2792-1:

Family Members: 1.

Special Education Teachers: 1.

Annual Responses: 98,608.

DD 2792:

Family Members: 55,828.

Medical Providers: 11,166.

DD 2792-1:

Family Members: 16,906.

Special Education Teachers: 14,708.

Average Burden per Response:

DD 2792:

Family Members: 5 minutes.

Medical Providers: 25 minutes.

DD 2792-1:

Family Members: 5 minutes.

Special Education Teachers: 20 minutes.

Frequency: As required.

Dated: May 8, 2023.
Aaron T. Siegel,
Alternate OSD Federal Register Liaison Officer, Department of Defense.

[FR Doc. 2023-10273 Filed 5-12-23; 8:45 am]

BILLING CODE 5001-06-P